FEDERAL COMMUNICATIONS COMMISSION

47 CFR Part 73

[DA No. 00-917; MM Docket No. 99-134; RM-9543 and RM-9572]

Radio Broadcasting Services; Drummond and Victor, MT

AGENCY: Federal Communications Commission.

ACTION: Final rule.

SUMMARY: This document allots Channel 268C to Drummond, Montana, in response to a petition filed by the Battani Corporation and allots Channel 250C3 to Victor, Montana, in response to a petition filed by Mountain West Broadcasting. See 64 FR 24996, May 10, 1999. The coordinates for Channel 268C at Drummond are 46-16-47 and 113-31-05. The coordinates for Channel 250C3 at Victor are 46-25-06 and 114-08-54. Canadian concurrence has been obtained for Channel 268C at Drummond. Allotment of Channel 250C3 at Victor is conditioned on concurrence of the Canadian Government in accordance with the 1991 Canada-USA FM Broadcast Agreement. With this action, this proceeding is terminated.

DATES: Effective June 9, 2000.

FOR FURTHER INFORMATION CONTACT: Kathleen Scheuerle, Mass Media Bureau, (202) 418-2180.

SUPPLEMENTARY INFORMATION: This is a summary of the Commission's Report and Order, MM Docket No. 99-134, adopted April 12, 2000, and released April 25, 2000. The full text of this Commission decision is available for inspection and copying during normal business hours in the Commission's Reference Center, 445 12th Street, SW, Washington, DC. The complete text of this decision may also be purchased from the Commission's copy contractors, International Transcription Services, Inc., 1231 20th Street, NW., Washington, DC. 20036, (202) 857-3800, facsimile (202) 857-3805.

List of Subjects in 47 CFR Part 73

Radio broadcasting.

Part 73 of title 47 of the Code of Federal Regulations is amended as follows:

PART 73—[AMENDED]

1. The authority citation for Part 73 continues to read as follows:

Authority: 47 U.S.C. 154, 303, 334 and 336.

§ 73.202 [Amended]

2. Section 73.202(b), the Table of FM Allotments under Montana, is amended by adding Drummund, Channel 268C and Victor, Channel 250C3.

Federal Communications Commission.
John A. Karousos,
Chief, Allocations Branch, Policy and Rules Division, Mass Media Bureau.

[FR Doc. 00-12255 Filed 5-15-00; 8:45 am]

BILLING CODE 6712-01-P